INTERNATIONAL TRADE COMMISSION

[Inv. No. 731-TA-663 (Second Review)]

Explanation of Commission Determination on Adequacy in Paper Clips From China

On October 4, 2005, the Commission unanimously determined that it should proceed to an expedited review in the subject five-year review pursuant to section 751(c)(3)(B) of the Tariff Act of 1930, as amended, 19 U.S.C. 1675(c)(3)(B).

The Commission determined that the domestic interested party group response to the notice of institution was adequate. The Commission received responses to the notice of institution from two domestic producers, ACCO Brands USA LLC and Officemate International Corporation. Because the Commission received adequate responses from two producers representing the overwhelming majority of domestic production, the Commission determined that the domestic interested party group response was adequate.

The Commission did not receive a response from any respondent interested party, and therefore determined that the respondent interested party group response to the notice of institution was inadequate. In the absence of an adequate respondent interested party group response, and any other circumstances that it deemed warranted proceeding to a full review, the Commission determined to conduct an expedited review. A record of the Commissioners' votes is available from the Office of the Secretary and the Commission's Web site (http://www.usitc.gov).

By order of the Commission.
Issued: October 12, 2005.
Marilyn R. Abbott,
Secretary to the Commission.

[FR Doc. 05-20798 Filed 10-17-05; 8:45 am]

BILLING CODE 7020-02-P